LOCAL TELEVISION LOAN GUARANTEE BOARD

LOCAL Television Loan Guarantee Program

AGENCY: LOCAL Television Loan Guarantee Board.

ACTION: Notice of applications received.

SUMMARY: The LOCAL Television Loan Guarantee Board (Board) reports on applications received in response to the application window that closed April 21, 2004.

FOR FURTHER INFORMATION CONTACT: Richard J. Anderson, Program Director, LOCAL Television Loan Guarantee Board, STOP 1590, Room 5151, 1400 Independence Avenue, SW., Washington, DC 20250-1590. Telephone: (202) 720-8818, fax: (202) 720-0810, email: richardj.anderson@usda.gov.

SUPPLEMENTARY INFORMATION: On December 23, 2003, the Board published a Notice of application filing deadline (Notice) in the Federal Register at 68 FR 74434 announcing a 120-day application window for the LOCAL Television Loan Guarantee Program (Program). The application window closed on April 21, 2004. The Board received one application, but it lacked essential components required by the Program's regulations. Since the application was incomplete, it was returned without action.

Dated: July 1, 2004.
Jacqueline Rosier,
Secretary, LOCAL Television Loan Guarantee Board.

[FR Doc. 04-15631 Filed 7-8-04; 8:45 am]

BILLING CODE 3410-15-P